DEPARTMENT OF THE INTERIOR

Fish and Wildlife Service

50 CFR Part 17

RIN 1018-AF80

DEPARTMENT OF COMMERCE

National Oceanic and Atmospheric Administration

50 CFR Parts 224, 226, and 424

[Docket No. 000330090-0090-01]

RIN 0648-XA51

Endangered and Threatened Wildlife and Plants; Notice of Change of Jurisdiction for Coastal Cutthroat Trout

AGENCIES: National Marine Fisheries Service (NMFS), National Oceanic and Atmospheric Administration (NOAA), Commerce; Fish and Wildlife Service (FWS), Interior.

ACTION: Transfer of agency jurisdiction.

SUMMARY: The Fish and Wildlife Service (FWS) and National Marine Fisheries Service (NMFS) have, in the past, jointly managed coastal cutthroat trout (Oncorhynchus clarki clarki) under the Endangered Species Act of 1973, as amended (16 U.S.C. 1531 et seq.) (ESA). This document is to alert interested parties that, effective November 22, 1999, the FWS assumed all ESA regulatory jurisdiction over coastal cutthroat. The only exception is that NMFS will retain ESA jurisdiction over the endangered Umpqua River cutthroat trout Evolutionary Significant Unit (ESU) until the agencies complete a final determination on the proposed de-listing of this ESU. The change in jurisdiction results from a joint agency determination that coastal cutthroat trout spend the majority of their life cycle in fresh water habitat.

DATES: The finding announced in this document was made on November 22, 1999.

ADDRESSES: Questions concerning this document should be submitted to the Supervisor, Fish and Wildlife Service, Oregon State Office, 2600 SE 98th Avenue, Suite 100, Portland, Oregon 97266; or to, Garth Griffin, National Marine Fisheries Service, Northwest Region, Protected Resources Division, 525 NE Oregon Street, Suite 500, Portland, OR 97232-2737.

FOR FURTHER INFORMATION CONTACT: Rollie White, Fish and Wildlife Service, telephone 503-231-6179, fax 503-231-6195; or, Garth Griffin, National Marine Fisheries Service, telephone 503-231-2005, fax 503-230-5435.

SUPPLEMENTARY INFORMATION: In the past, ESA jurisdiction over the coastal cutthroat trout has been shared by the FWS and NMFS, although NMFS has a history of conducting status reviews on sea-run forms of cutthroat trout (61 FR 41514, August 9, 1996; 64 FR 16397, April 5, 1999). During the status review for Umpqua River sea-run cutthroat trout, both agencies agreed that NMFS would handle ESA responsibilities for this species in the Umpqua River Basin (FWS, 1994). Since that time, the matter of agency jurisdiction has arisen for the various cutthroat life forms in other west coast basins. At issue is the question of appropriate jurisdiction for a species with both diadromous (i.e., migrating between fresh-and saltwater) and resident (i.e., freshwater-dwelling) life forms. Salmonid species exhibiting the former life forms have generally been managed by NMFS while the latter forms have typically been under the jurisdiction of the FWS. The change in jurisdiction announced in this Notice is based on a determination that coastal cutthroat trout spend the majority of their life cycle in fresh water habitat.

On April 5, 1999, the agencies published a joint proposal to list the southwestern Washington/Columbia River cutthroat trout ESU as a threatened species and to de-list the Umpqua River ESU under the ESA (64 FR 16397). In that proposal, we announced that a decision would be made about which agency would have sole jurisdiction over the species. On November 22, 1999, the Directors of NMFS and the FWS signed a joint letter determining that the FWS shall assume all ESA regulatory jurisdiction over coastal cutthroat trout. For the FWS, applicable ESA regulations would include those promulgated in 50 CFR part 17. For NMFS the applicable ESA regulations would include those promulgated in 50 CFR part 222, 226 and 424.

In making this decision, the agencies recognized that certain ESA responsibilities pertaining to the Umpqua River ESU should be retained by NMFS for a short time so that pending rulemaking and consultation issues can be efficiently concluded prior to FWS assuming complete jurisdiction for the species. Because the original status review and listing decisions for this ESU were conducted by NMFS, the final de-listing assessment will continue to be conducted by NMFS. The results of this assessment have been announced in a Federal Register document ¹ and, in accordance with section 4(a)(2)(B) of the ESA, will require FWS' concurrence on any de-listing determination for the Umpqua River ESU. Also, NMFS will continue to conduct ESA section 7 consultations for this ESU until publication of a final determination.

¹ See the Federal Register issue of April 19, 2000 I.D. 121198A).

In addition, the agencies have determined that the FWS would conclude the final listing determination for southwestern Washington/Columbia River cutthroat trout populations in light of their proposed listing status. FWS has, therefore, assumed sole ESA regulatory responsibilities (e.g., conferencing requirements) for addressing these populations. Final listing determinations for the Southwestern Washington/Columbia River and Umpqua River populations are expected to be completed by April 2000. Regardless, both agencies will continue to coordinate activities such as section 7 consultations and Habitat Conservation Plans involving watersheds shared by coastal cutthroat trout and salmonid species under NMFS jurisdiction (e.g., steelhead, coho, and chinook salmon).

References Cited

A complete list of all references cited herein is available on request from the Fish and Wildlife Service (See ADDRESSES section).

Author

The primary author of this document is Rollie White, Fish and Wildlife Service, (see ADDRESSES section).

Authority

The authority for this action is the Endangered Species Act (16 U.S.C. 1531 et seq.).

Dated: April 12, 2000.
Cynthia U. Barry,
Acting Regional Director, Region 1, Fish and Wildlife Service.
Dated: April 7, 2000.
Penelope D. Dalton,
Assistant Administrator for Fisheries, National Marine Fisheries Service.

[FR Doc. 00-9737 Filed 4-20-00; 8:45 am]

BILLING CODE 4310-55-U